DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Vessel Cost and Earnings Data Collection Survey in the Greater Atlantic Region.

OMB Control Number: 0648-0643.

Form Number(s): None.

Type of Request: Regular (revision and extension of a currently approved information collection).

Number of Respondents: 262.

Average Hours per Response: One hour.

Burden Hours: 262.

Needs and Uses: This request is for revision and extension of an existing information collection.

Economic data on the costs of operating commercial fishing businesses are needed by the National Marine Fisheries Service (NMFS) to meet the legislative requirements of the Magnuson-Stevens Fishery Conservation and Management Act, the National Environmental Policy Act, Executive Order 12866 and the Regulatory Flexibility Act. The Social Sciences Branch (SSB) of the NMFS, Northeast Fisheries Science Center (NEFSC) is responsible for estimating the economic and social impacts of fishery management actions.

Lack of information on fixed (non-trip related) costs, crew payments and operating (trip) costs has severely limited the ability of the SSB to assess fishermen's behavioral responses to changes in regulations, fishing conditions, and market conditions. Maintaining an ongoing, consistent, data collection program will enable the SSB to provide a level of analysis that meets the needs of the New England Fishery Management Council, the Mid-Atlantic Fishery Management Council and NMFS, on behalf of the Secretary of Commerce, to make informed decisions about the expected economic effects of proposed management alternatives.

Revision: We will begin conducting this survey every four years rather than annually, to reduce respondent burden and fatigue. In the next iteration, to be mailed in early 2016, half the population will receive a survey for costs incurred in 2015. In early 2017, the remaining half will receive a survey for costs incurred in 2016.

Affected Public: Business or other for-profit organizations.

Frequency: Once every four years.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 13, 2015.
Glenna Mickelson,
Management Analyst, Office of the Chief Information Officer.

[FR Doc. 2015-00667 Filed 1-16-15; 8:45 am]

BILLING CODE 3510-22-P